DEPARTMENT OF COMMERCE

National Oceanic and Atmospheric Administration

RIN 0648-XE86

Fisheries of the Caribbean, Gulf of Mexico, and South Atlantic; Snapper-Grouper Fishery off the Southern Atlantic States; Amendment 17

AGENCY: National Marine Fisheries Service (NMFS), National Oceanic and Atmospheric Administration (NOAA), Commerce.

ACTION: Notice of intent (NOI) to prepare a draft environmental impact statement (DEIS); notice of scoping meetings; request for comments.

SUMMARY: The South Atlantic Fishery Management Council (Council) intends to prepare a DEIS to assess the impacts on the natural and human environment of the management measures proposed in its draft Amendment 17 to the Fishery Management Plan for the Snapper-Grouper Fishery of the South Atlantic Region (FMP).

DATES: Written comments on the scope of the issues to be addressed in the DEIS will be accepted until February 22, 2008, at 5 p.m.

ADDRESSES: Comments may be sent by any of the following methods, mail: Kate Michie, NMFS, Southeast Regional Office, 263 13th Avenue South, St. Petersburg, FL 33701; phone: 727-824-5305; fax: 727-824-5308; e-mail: 0648-XE86@noaa.gov. Scoping documents are available from the Council's Web site at www.safmc.net.

FOR FURTHER INFORMATION CONTACT: Kim Iverson, Public Information Officer, South Atlantic Fisheries Management Council, 4055 Faber Place Drive, Suite 201, North Charleston, SC 29405; phone: 843-571-4366, toll free 1-866-SAFMC-10; fax: 843-769-4520; e-mail: kim.iverson@safmc.net.

SUPPLEMENTARY INFORMATION: The snapper-grouper fishery of the South Atlantic region in the exclusive economic zone is managed under the FMP. The FMP was prepared by the Council and implemented by NMFS under the authority of the Magnuson-Stevens Fishery Conservation and Management Act (Magnuson-Stevens Act) by regulations at 50 CFR part 622.

The Council is considering specifying annual catch limits (ACLs) for all snapper-grouper species currently undergoing overfishing. Revisions to the Magnuson-Stevens Act in 2007 require that by 2010, FMPs, for fisheries determined by the Secretary to be subject to overfishing, must establish a mechanism for specifying ACLs at a level that prevents overfishing and does not exceed the recommendations of the Council's Scientific and Statistical Committees or other established peer review processes. These FMPs are also required to establish, by 2010, accountability measures for fisheries subject to overfishing.

By 2011, FMPs for all other fisheries, except fisheries for species with annual life cycles, must meet these same requirements. The Council is considering alternatives such as removing species from the fishery management unit that are rarely captured or taken primarily in state waters. The Council is also considering assigning some species to stock complexes. Furthermore, the Council is considering extending regulations for the snapper-grouper complex into the Mid-Atlantic Fishery Management Council's jurisdiction because the northern part of the range of some snapper-grouper species occurs beyond the current jurisdiction of the Council.

This NOI is intended to inform the public of the preparation of a DEIS in support of Amendment 17 to the FMP. The DEIS will specify ACLs, establish measures to ensure accountability for species experiencing overfishing, as well as establish other measures. Following publication of this NOI, the Council will conduct public scoping meetings to determine the range of issues to be addressed in the DEIS and the associated Amendment 17.

Following consideration of public scoping comments, the Council plans to begin preparation of the draft Snapper-Grouper Amendment 17/DEIS. The Council and its Scientific and Statistical Committee will review the draft Snapper-Grouper Amendment 17/DEIS in 2008. If the Council approves the document, public review will take place in late 2008. A comment period on the DEIS is planned, which will include public hearings to receive comments. A Federal Register notice will announce the availability of the DEIS associated with this amendment, as well as a 45-day public comment period, pursuant to regulations issued by the Council on Environmental Quality for implementing the National Environmental Policy Act and to NOAA's Administrative Order 216-6. The Council will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

Scoping Meetings, Times, and Locations

All meetings will begin at 2 p.m. In addition to Amendment 17, the Council intends to scope three other amendments at this series of meetings. Separate NOIs have been prepared for each amendment. The meetings will be physically accessible to people with disabilities. Requests for information packets or for sign language interpretation or other auxiliary aids should be directed to the Council (see ADDRESSES).

Monday, February 4, 2008—The Mutiny Hotel, 2951 South Bayshore Drive, Coconut Grove, FL 33133; phone: 305-441-2100.

Tuesday, February 5, 2008—Radisson Resort at the Port, 8701, Astronaut Boulevard, Cape Canaveral, FL 32920; phone: 321-784-0000.

Wednesday, February 6, 2008—Quality Inn, 125 Venure Drive, Brunswick, GA 31525; phone: 912-265-4600.

Thursday, February 7, 2008—Sheraton New Bern, 100 Middle Street, New Bern, NC 28560; phone: 252-638-3585.

Wednesday, February 20, 2008—Hilton Garden Inn, 5265 International Boulevard, North Charleston, SC 29418; phone: 843-308-9331.

Authority: 16 U.S.C. 1801 et seq.

Dated: January 16, 2008.
Emily H. Menashes,
Acting Director, Office of Sustainable Fisheries, National Marine Fisheries Service.

[FR Doc. E8-1029 Filed 1-18-08; 8:45 am]

BILLING CODE 3510-22-S